DEPARTMENT OF LABOR

Mine Safety and Health Administration

Proposed Information Collection Request Submitted for Public Comment and Recommendations; Records of Results of Examinations of Self-Rescuers

ACTION: Notice.

SUMMARY: The Department of Labor, as part of its continuing effort to reduce paperwork and respondent burden conducts a preclearance consultation program to provide the general public and Federal agencies with an opportunity to comment on proposed and/or continuing collections of information in accordance with the Paperwork Reduction Act of 1995 (PRA95) (44 U.S.C. 3506(c)(2)(A). This program helps to ensure that requested data can be provided in the desired format, reporting burden (time and financial resources) is minimized, collection instruments are clearly understood, and the impact of collection requirements on respondents can be properly assessed.

DATES: Submit comments on or before June 11, 2001.

ADDRESSES: Send comments to Brenda C. Teaster, Acting Chief, Records Management Division 4015 Wilson Boulevard, Room 709a, Arlington, VA 22203-1984.

Commenters are encouraged to send their comments on a computer disk, or via Internet E-mail to bteaster@msha.gov, along with an original printed copy. Ms. Teaster can be reached at (703) 235-1470 (voice), or (703) 235-1564 (facsimile).

FOR FURTHER INFORMATION CONTACT: Brenda C. Teaster, Acting Chief, Records Management Division, U.S. Department of Labor, Mine Safety and Health Administration, Room 709A, 4015 Wilson Boulevard, Arlington, VA 22203-1984. Ms. Teaster can be reached at bteaster@msha.gov (Internet E-mail), (703) 235-1470 (voice), or (703) 235-1563 (facsimile).

SUPPLEMENTARY INFORMATION:

I. Background

The Self-Rescue devices are subjected to harsh in-mine conditions that may result in damage to the device which could cause the device to malfunction or provide less than adequate protection. The 90-day examination of the device is necessary in order to provide for early detection of potential problems that would otherwise go undetected. Requiring the mine operator to certify the examination was made and to record any identified defects gives credibility to the program and decreases the likelihood of a person being required to use a device that may not function as designed. In addition, this information is useful in determining how durable a device may be when subjected to the harsh conditions that are encountered during in-mine use. This allows for early detection of design problems that may require the manufacturer to make changes to a device in order to assure the device will continue to function as designed and provide adequate protection in the event of an emergency.

II. Desired Focus

Currently, the Mine Safety and Health Administration (MSHA) is soliciting comments concerning the proposed extension. MSHA is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

A copy of the proposed information collection request may be viewed on the Internet by accessing the MSHA Home Page (http://www.msha.gov) and selecting “Statutory and Regulatory Information” then “Paperwork Reduction Act Submissions (http://www.msha.gov/regspwork.htm)”, or by contacting the employee listed above in the For Further Information Contact section of this notice for a hard copy.

III. Current Actions

In 1997, a large number of problems were identified with SCSR devices that indicated either the 90-day examinations were not being conducted, or defective devices were not being removed from service. As a result of these problems, MSHA issued a Program Information Bulletin reminding the industry of the standard requiring the 90-day examination and certification of the self-rescuer devices, and requiring devices that fail the 90-day examination to be removed from service. In addition, MSHA increased the inspection effort to include quarterly evaluation of the mine operators records as well as a physical examination of a representative number of self-rescue devices. However, due to the large number of devices in use in the mining industry, (approximately 50,000 devices) it is essential that mine operators continue to certify that the 90-day examination was conducted on each device, and record the results for devices that failed the 90-day examination. Although MSHA has increased the enforcement effort, the large number of devices in use in the mining industry make it impractical for MSHA to be able to examine each of the devices quarterly.

Type of Review: Extension.

Agency: Mine Safety and Health Administration.

Title: Records of Results of Examinations of Self-Rescuers.

OMB Number: 1219-0044.

Recordkeeping: One Year.

Affected Public: Business or other for-profit.

Cite/Reference/Form/etc: 30 CFR 75.1714-3.

Total Respondents: 887.

Frequency: Quarterly.

Total Responses: 3,648.

Average Time per Response: 30 minutes.

Estimated Total Burden Hours: 1,776 hours.

Estimated Total Burden Cost: $0.

Total Burden Cost (capital/startup): 0.

Total Burden Cost (operating/maintaining): 0.

Comments submitted in response to this notice will be summarized and/or included in the request for Office of Management and Budget approval of the information collection request; they will also become a matter of public record.

Dated: April 3, 2001.
Brenda C. Teaster,
Acting Chief, Records Management Division.

[FR Doc. 01-8919 Filed 4-10-01; 8:45 am]

BILLING CODE 4510-43-M